DEPARTMENT OF THE INTERIOR

National Park Service

Notice of Inventory Completion: Northwest Museum, Whitman College, Walla Walla, WA

AGENCY: National Park Service, Interior.

ACTION: Notice.

Notice is here given in accordance with the Native American Graves Protection and Repatriation Act (NAGPRA), 25 U.S.C. 3003, of the completion of an inventory of human remains in the possession of the Northwest Museum (formerly Maxey Museum), Whitman College, Walla Walla, WA. The human remains were removed from Walla Walla County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Whitman College and Northwest Museum professional staff in consultation with representatives of the Confederated Tribes of the Umatilla Indian Reservation, Oregon.

On an unknown date, human remains representing a minimum of one individual were removed from a home site in Walla Walla, Walla Walla County, WA. In 1929, the human remains were donated to the Northwest Museum at Whitman College by Mr. Emory Frank (WHIT-X-0008; Old Cat. No. 540, 5743 and WHIT-XX-0049; Old Cat. No. 5743). No known individual was identified. No associated funerary objects are present.

According to museum records, the human remains were identified as Indian, and were found buried in a sitting position. The human remains are determined to be Native American based on skeletal morphology, as well as on museum records of the provenience.

The city of Walla Walla is within the ceded lands of the Confederated Tribes of the Umatilla Indian Reservation, Oregon. The ceded land of the Confederated Tribes of the Umatilla Indian Reservation extends over 6.4 million acres in eastern Oregon and southeast Washington, and was occupied by the Weyiiletpu. Walla Walla is in an area that the Pasxapu band of the Weyiiletpu used for winter quarters. The Walla Walla River and its tributaries is where they fished for salmon and gathered foods and medicines along the river banks and ridges. The Pasxapu summers were spent hunting, fishing, and gathering foods and medicines in the adjacent Blue Mountains. Consultation evidence from tribal representatives of the Confederated Tribes of the Umatilla Indian Reservation further supports this evidence of occupation. Descendants of the Walla Walla (Waluulapam), Umatilla (Imatalamlama), and Cayuse (Weyiiletpu) tribes that are enrolled in the Confederated Tribes of the Umatilla Indian Reservation, Oregon, are of the Shahaptian cultural group.

Officials of the Northwest Museum, Whitman College have determined that, pursuant to 25 U.S.C. 3001 (9-10), the human remains described above represent the physical remains of one individual of Native American ancestry. Officials of the Northwest Museum, Whitman College also have determined that, pursuant to 25 U.S.C. 3001 (2), there is a relationship of shared group identity that can be reasonably traced between the Native American human remains and the Confederated Tribes of the Umatilla Indian Reservation, Oregon.

Representatives of any other Indian tribe that believes itself to be culturally affiliated with the human remains should contact Brian Dott, Director, Northwest Museum, Maxey Hall, Whitman College, 345 Boyer Ave., Walla Walla, WA 99362, telephone (509) 527-5776, fax (509) 527-5026, before April 24, 2009. Repatriation of the human remains to the Confederated Tribes of the Umatilla Indian Reservation, Oregon may proceed after that date if no additional claimants come forward.

The Northwest Museum, Whitman College is responsible for notifying the Confederated Tribes of the Umatilla Indian Reservation, Oregon that this notice has been published.

Dated: March 10, 2009
Sherry Hutt,
Manager, National NAGPRA Program.

[FR Doc. E9-6512 Filed 3-24-09; 8:45 am]

BILLING CODE 4312-50-S